DEPARTMENT OF COMMERCE

International Trade Administration

[A-570-847]

Persulfates From the People's Republic of China: Notice of Correction to the Final Results of the 2009-2010 Antidumping Duty Administrative Review

AGENCY: Import Administration, International Trade Administration, Department of Commerce.

DATES: Effective Date: June 17, 2011.

FOR FURTHER INFORMATION CONTACT: Brandon Petelin, AD/CVD Operations, Office 4, Import Administration, International Trade Administration, U.S. Department of Commerce, 14th Street and Constitution Avenue, NW., Washington, DC 20230; telephone: (202) 482-8173.

SUPPLEMENTARY INFORMATION:

Correction

On May 17, 2011, the Department of Commerce (“Department”) published in the Federal Register the final results of the 2009-2010 administrative review of the antidumping duty order on persulfates from the People's Republic of China (“PRC”).¹ The period of review covered July 1, 2009, through June 30, 2010. The published Federal Register notice contained a ministerial error, in that it identified the incorrect case number associated with persulfates from the PRC (i.e., case number A-570-878).² The correct case number associated with persulfates from the PRC is A-570-847. Pursuant to section 751(h) of the Tariff Act of 1930, as amended (“the Act”), the Department shall correct any ministerial errors within a reasonable time after the determination issues. A ministerial error is defined as an error “in addition, subtraction, or other arithmetic function, clerical errors resulting from inaccurate copying, duplication, or the like, and any other type of unintentional error.” This notice serves to correct the case number reported in the Final Results.

¹ See Persulfates from the People's Republic of China: Final Results of 2009-2010 Antidumping Duty Administrative Review, 76 FR 28419 (May 17, 2011) (“Final Results”).

² Id. at 28419.

This correction is published in accordance with sections 751(h) and 777(i) of the Act.

Dated: June 1, 2011.
Ronald K. Lorentzen,
Deputy Assistant Secretary for Import Administration.

[FR Doc. 2011-15131 Filed 6-16-11; 8:45 am]

BILLING CODE 3510-DS-P